FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 201098-001.

Title: New Orleans/Carnival Terminal Agreement.

Parties: The Board of Commissioners of the Port of New Orleans Carnival Corporation.

Synopsis: The proposed amendment increases the improvements to the facilities, increases Carnival's obligation for use of the facilities and changes the term of the agreement. The agreement will run until December 31, 2005.

Agreement No.: 201121.

Title: New Orleans/Pacorini Terminal Agreement.

Parties: The Board of Commissioners of the Port of New Orleans Pacorini USA, Inc.

Synopsis: The proposed agreement is for a lease of the Alabo Street Wharf Terminal Complex. The agreement runs through April 14, 2006.

Agreement No.: 201122.

Title: Pacific Maritime Services Cooperative Working Agreement.

Parties: SSA Ventures, Inc., SSA Pacific Terminals, Inc., COSCO Terminals America, Inc.

Synopsis: The proposed agreement provides for the joint ownership of Pacific Maritime Services, LLC, a firm providing container stevedoring, terminal and related services in Long Beach , California. The agreement runs through June 30, 2011.

Dated: May 18, 2001.
By Order of the Federal Maritime Commission.
Bryant L. VanBrakle,
Secretary.

[FR Doc. 01-13062 Filed 5-22-01; 8:45 am]

BILLING CODE 6730-01-P